DEPARTMENT OF THE INTERIOR

National Park Service

[NPS-WASO-NRNHL-0611-7822; 2280-665]

National Register of Historic Places; Notification of Pending Nominations and Related Actions

Nominations for the following properties being considered for listing or related actions in the National Register were received by the National Park Service before June 25, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by August 4, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

CALIFORNIA

Los Angeles County

Bristol—Cypress Historic District (Late 19th and Early 20th Century Development and Architecture in Pasadena MPS), 438-516 Cypress Ave., Pasadena, 11000489.

Cosby, James Fielding, House (Late 19th and Early 20th Century Development and Architecture in Pasadena MPS), 510 Locke Haven St., Pasadena, 11000490.

Denham, Mary E., House (Late 19th and Early 20th Century Development and Architecture in Pasadena MPS), 297 S. Orange Grove Blvd., Pasadena, 11000491.

Hartwell, John S., House (Late 19th and Early 20th Century Development and Architecture in Pasadena MPS), 423 Lincoln Ave., Pasadena, 11000492.

Hillmont (Late 19th and Early 20th Century Development and Architecture in Pasadena MPS), 1375 E. Mountain St., Pasadena, 11000493.

Hood, Mrs. J.H., House (Late 19th and Early 20th Century Development and Architecture in Pasadena MPS), 494 Ellis St., Pasadena, 11000494.

House at 1360 Lida Street (Late 19th and Early 20th Century Development and Architecture in Pasadena MPS), 1360 Lida St., Pasadena, 11000495.

Jarvis, Benjamin, House (Late 19th and Early 20th Century Development and Architecture in Pasadena MPS), 531 N. Raymond Ave., Pasadena, 11000496.

Lacey, Friend, House (Late 19th and Early 20th Century Development and Architecture in Pasadena MPS), 679 E. Villa St., Pasadena, 11000497.

New Fair Oaks Historic District (Late 19th and Early 20th Century Development and Architecture in Pasadena MPS), 480-512 Lincoln Ave. & 57-103 W. Villa St., Pasadena, 11000498.

Post, George B., House (Late 19th and Early 20th Century Development and Architecture in Pasadena MPS), 360 S. Grand Ave., Pasadena, 11000499.

Raymond—Summit Historic District (Late 19th and Early 20th Century Development and Architecture in Pasadena MPS), Roughly bounded by N. Raymond Ave., E. Villa St., Summit Ave. & E. Maple St., Pasadena, 11000500.

San Francisco County

San Francisco Public Library North Beach Branch, 2000 Mason St., San Francisco, 11000502.

FLORIDA

Lee County

Lindsley, Halstead and Emily, House 1300 W. 13th St., Boca Grande, 11000501.

IOWA

Greene County

Jefferson Square Commercial Historic District, Courthouse Sq. and fronting blocks of N. Wilson, N. Chestnut, E. Lincoln, E. State & 115 S. Wilson Sts., Jefferson, 11000503.

KANSAS

Leavenworth County

Sumner Elementary School (Public Schools of Kansas MPS), 1501 5th Ave., Leavenworth, 11000504.

Lyon County

Cross, Col. H.C. and Susan, House 526 Union St., Emporia, 11000505.

Reno County

Hoke Building (Commercial and Industrial Resources of Hutchinson MPS), 25 E. 1st Ave., Hutchinson, 11000506.

Russell County

Dorrance State Bank, 512 Main St., Dorrance, 11000507.

NORTH CAROLINA

Durham County

Carr, John C. and Binford, House 3400 Westover Rd., Durham, 11000508.

Forsyth County

Chatham Manufacturing Company—Western Electric Company, 750 & 800 Chatham Rd., Winston-Salem, 11000509.

Mecklenburg County

Pineville Commercial Historic District 310-333 Main & 105-109 Dover Sts., Pineville, 11000510.

Pineville Mill Village Historic District Roughly bounded by Dover, Price & Hill Sts., Lakeview Dr. & Eden Ct., Pineville, 11000511.

RHODE ISLAND

Washington County

Baker, David S., Estate, 51 & 67 Prospect Ave., North Kingstown, 11000512.

TEXAS

Bexar County

Brackinridge Park, Roughly bounded by Hildebrand Ave., Broadway & Ave. B, Josephine St., US 281, River Rd., Alpine Dr., N. St. Mary's St. & the San Antonio Zoo. San Antonio, 11000513.

Tarrant County

Butler Place Historic District Roughly bounded by Luella St., I.M. Terrell Way Cir. N., 19th St. & I-35W, Fort Worth, 11000514.

Williamson County

Hutto Commercial Historic District 101-205 East St., 202 Farley St. & 204 US 79., Hutto, 11000515.

VERMONT

Orleans County

White, Ai J., Duplex, 343 Main St., Newport, 11000517.

Windham County

Broad Brook House 475 Coolidge Hwy., Guilford, 11000516.

WISCONSIN

Racine County

Yorkville #4 School, 17640 Old Yorkville Rd., Yorkville, 11000518.

[FR Doc. 2011-18228 Filed 7-19-11; 8:45 am]

BILLING CODE 4312-51-P